DEPARTMENT OF DEFENSE

Office of the Secretary

Federal Advisory Committee; U.S. Nuclear Command and Control System Comprehensive Review Committee; Charter Termination

AGENCY: Department of Defense (DoD).

ACTION: Termination of Federal advisory committee.

SUMMARY: Under the provisions of the Federal Advisory Committee Act of 1972, (5 U.S.C. Appendix, as amended), the Government in the Sunshine Act of 1976 (5 U.S.C. 552b, as amended), and title 41 of the CFR, the Department of Defense gives notice that it is terminating the charter for the U.S. Nuclear Command and Control System Comprehensive Review Committee.

FOR FURTHER INFORMATION CONTACT: Jim Freeman, Deputy Committee Management Officer for the Department of Defense, 703-601-6128.

Dated: March 4, 2010.
Mitchell S. Bryman,
Alternate OSD Federal Register Liaison Officer, Department of Defense.

[FR Doc. 2010-5098 Filed 3-9-10; 8:45 am]

BILLING CODE 5001-06-P